ENVIRONMENTAL PROTECTION AGENCY

[FRL-7431-2]

Science Advisory Board; Scientific and Technological Achievement Awards Review Panel; Request for Nominations

1. Action: Notice; request for nominations to the Scientific and Technological Achievement Awards Review Panel of the Science Advisory Board of the U.S. Environmental Protection Agency.

2. Summary: The Science Advisory Board (SAB) of the U.S. Environmental Protection Agency (EPA or Agency) was established to provide independent scientific and technical advice, consultation, and recommendations to the EPA Administrator on the technical basis for Agency positions and regulations. At the request of the EPA Office of Research and Development (ORD), the SAB is forming a Scientific and Technological Achievement Awards Review Panel (hereinafter, the “Panel”) of its Executive Committee to evaluate scientific and technological papers published in peer-reviewed journals and books by EPA authors and nominated for the FY2002 EPA Scientific and Technological Achievement Awards Program (STAA Program). The Scientific and Technological Achievement Awards—2003 Nomination Procedures and Guidelines can be found at the following Web site http://es.epa.gov/ncer/rfa/current/2003_staa_mem_attachments.pdf.

The SAB is hereby soliciting nominations for this Panel, which will serve in this capacity for three years. The Panel will consider nominations in the areas of control systems and technology, ecological research, health effects research and human risk assessment, monitoring and measurement methods, transport and fate, review articles, risk management and ecosystem restoration, integrated risk assessment, social sciences, and environmental futures. These areas are described in more detail at the Web site identified in the above paragraph.

The Science Advisory Board is a Federal advisory committee chartered under the Federal Advisory Committee Act (FACA), as amended (5 U.S.C. App.). The Panel will comply with the provisions of FACA and all appropriate SAB procedural policies, including the SAB process for panel formation described in the Overview of the Panel Formation Process at the Environmental Protection Agency Science Advisory Board, which can be found on the SAB's Web site at: http://www.epa.gov/sab/pdf/ecm02003.pdf Meetings of this panel will be closed to the public because the discussion will involve professional judgements on the relative merits of various employees and their respective work. Such personnel issues, where disclosure of information of a personal nature would constitute an unwarranted invasion of personal privacy, are protected from disclosure by section (c)(6) of the Government in the Sunshine Act, 5 U.S.C. 552(b)(6).

3. Background: The mission of the United States Environmental Protection Agency is to protect public health and safeguard and improve the natural environment—the air, water and land upon which life depends. Achievement of this mission requires the application of sound science to the assessment of environmental problems and to the evaluation of possible solutions. The process of publishing EPA scientific findings in peer reviewed journals enhances the rigor of the science and the reputation of the Agency and its programs. The STAA Program is a long-standing partnership between the Agency and the EPA Science Advisory Board. For over two decades, Agency scientists and engineers have submitted nominated scientific and technological papers through an internal Agency review process managed by the Office of Research and Development (ORD) to ensure that the best are submitted to the SAB for evaluation in the awards process. The SAB convenes an experienced group of scientists and engineers who review and evaluate the nominations. The Panel then produces a set of award recommendations which ORD uses in preparing the actual awards. Once the Panel completes its deliberations, its report will be forwarded to the Executive Committee of the Science Advisory Board, which will review the Panel's report at a public meeting and reach a judgment concerning its transmittal to the Administrator.

4. Nominator's Assessment of Expertise: For all nominations submitted to the EPA SAB, please indicate the specific areas of expertise the candidate could contribute in this upcoming review. The nominee should be a recognized, national-level expert able to review papers in one or more of the following areas:

a. Control systems and technology,

b. Ecological resarch,

c. Health effects research and human risk assessment,

d. Monitoring and measurement methods,

e. Transport and fate,

f. Risk management and ecosystem restoration,

g. Integrated risk assessment,

h. Social sciences, and

i. Environmental futures.

Experience reviewing articles for peer reviewed journals and/or service as an editor of a peer reviewed journal is highly desirable.

Please note that, to be considered, nominees must be available for a three-day face-to-face meeting. The meeting will be held on one of the three following sets of dates: June 30-July 2, July 22-24, or August 5-7. Nominees will be considered who are available on one or more of these three suites of dates.

5. Process and Deadline for Submitting Nominations: Any interested person or organization may nominate qualified individuals for membership on the Panel. Nominations should be submitted in electronic format and must include the information listed below. To be considered, all nominations must include: (a) A current biography, curriculum vitae (C.V.) or resume, which provides the nominee's background, experience and qualifications for this panel; and (b) a brief biographical sketch (“biosketch”). The biosketch should be no longer than one page and contain the following information for the nominee: current professional affiliations and positions held; service as an editor of peer reviewed journal(s), if any; research interests; leadership positions in national associations or professional publications or other significant distinctions; advanced degrees, including from which institutions these were granted; and sources of recent grant and/or other contract support.

Please provide nominations in the following manner:

(a) Send the nomination by E-mail to the EPA's Science Advisory Board at: sab@epa.gov.

(b) Use one E-mail per person being nominated.

(c) Please use “STAA PANEL” in the subject field, followed by the last name of the candidate you are nominating. (For example, STAA PANEL: Smith).

(d) Attach supporting information (i.e., resume, biosketch, etc.) in either MS Word or WordPerfect files formats ending in “.doc” or “.wpd,” respectively.

(e) In a separate file, please provide the following information in the order shown:

For the Person or Organization Making the Nomination:

First Name:

Last Name:

Person Title (e.g., Dr., Mr., Ms., etc.)

Organization Title:

E-mail Address:

Mailing Address:

Work Phone:

Work Fax:

Name of Nominee (if Nomination is not a self-nomination):

First Name:

Last Name:

Person Title (e.g., Dr., Mr., Ms., etc.)

Professional Title:

Department:

School or Unit:

University or Organization:

Mailing Address:

Work Phone:

Fax Work Phone:

E-mail Address:

Web site for C.V. (if one exists):

Expertise (Identify the Nominee's specific qualifying expertise and relate it to the review areas identified in Section 4 of this Federal Register):

Nominations should be submitted in electronic format as described above (and sent to sab@epa.gov). Anyone who is unable to submit nominations in electronic format may send hard copies of the nomination paperwork to Ms. White. Ms. White can be reached by first class mail at EPA Science Advisory Board, U.S. Environmental Protection Agency (1400A), 1200 Pennsylvania Avenue, NW., Washington, DC 20460; by overnight mail to Cubicle 6450Z, EPA Science Advisory Board, 1200 Pennsylvania Ave, NW., Washington, DC 20004; or via fax at: (202) 501-0582. Nominations should be submitted in time to arrive no later than January 31, 2003. Any questions should be directed to Ms. White either at white.kathleen@epa.gov or via telephone at: (202) 564-4559.

The EPA Science Advisory Board will generally not formally acknowledge or respond to nominations. From the nominees (termed the “Widecast”), SAB Staff will develop a smaller subset (known as the “Short List”) for more detailed consideration. Criteria used by the SAB Staff in developing this Short List are given at the end of the following paragraph. The Short List will be posted on the SAB Web site at: http://www.epa.gov/sab, and will include, for each candidate, the nominee's name and their biosketch. Public comments will be accepted for 21 calendar days on the Short List. During this comment period, the public will have the opportunity to provide information, analysis or other documentation on nominees that the SAB Staff should consider in evaluating candidates for the Panel.

For the EPA SAB, a balanced review panel is characterized by inclusion of candidates who possess the necessary knowledge, the relevant scientific perspectives (which, among other factors, can be influenced by work history and affiliation), and the collective breadth of experience to undertake the review. Public responses to the Short List candidates will be considered in the selection of the Panel, along with information provided by candidates and information gathered by EPA SAB Staff independently on the background of each candidate. Specific criteria to be used in evaluating an individual panelist include: (a) Scientific and/or technical expertise, knowledge, and experience (primary factors); (b) skills working in committees, subcommittees and advisory panels; (c) absence of financial conflicts of interest; (d) scientific credibility and impartiality; and (e) availability and willingness to serve.

Short List candidates will also be required to fill-out the “Confidential Financial Disclosure Form for Special Government Employees Serving on Federal Advisory Committees at the U.S. Environmental Protection Agency” (EPA Form 3110-48). This confidential form, which is used by EPA SAB Members and Consultants, allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

7. General Information: The approved policy under which the EPA SAB selects review panels is described in a recent SAB document, EPA Science Advisory Board (SAB) Panel Formation Process: Immediate Steps to Improve Policies and Procedures—An SAB Commentary (EPA-SAB-EC-COM-002-003), which can be found on the SAB's Web site at: http://www.epa.gov/sab/pdf/ecm02003.pdf.

Additional information concerning the EPA Science Advisory Board, including its structure, function, and composition, may be found on the EPA SAB Web site at: http://www.epa.gov/sab; and in the EPA Science Advisory Board FY2001 Annual Staff Report, which is available from the EPA SAB Publications Staff at phone: (202) 564-4533; via fax at: (202) 501-0256; or on the SAB Web site at http://www.epa.gov/sab/pdf/annreport01.pdf.

Dated: December 20, 2002.
A. Robert Flaak,
Acting Director, EPA Science Advisory Board Staff Office.

[FR Doc. 02-32776 Filed 12-26-02; 8:45 am]

BILLING CODE 6560-50-P